ENVIRONMENTAL PROTECTION AGENCY

[FRL 9927-99-Region 5]

Request for Nominations of Experts to the Science and Information Subcommittee of the Great Lakes Advisory Board

AGENCY: Environmental Protection Agency (EPA).

ACTION: Notice.

SUMMARY: The Environmental Protection Agency (EPA) announces the formation of a new Science and Information Subcommittee (SIS) of the Great Lakes Advisory Board (the Board) and requests nominations of experts to be considered for appointment to the SIS. The SIS will assist the Board in providing ongoing advice on Great Lakes “adaptive management,” the process of learning from past decisions to make more effective future Great Lakes Restoration Initiative (GLRI) decisions. The SIS may provide other recommendations, as requested by the federal Great Lakes Interagency Task Force (IATF) and for the benefit of the IATF. Sources in addition to this Federal Register Notice may be used in the solicitation of nominees.

DATES: Nominations should be submitted within June 19, 2015 per instructions below.

ADDRESSES: Submit nominations electronically with the subject line “SIS Nomination 2014” to cestaric.rita@epa.gov. You may also submit nominations by mail to: Rita Cestaric, Designated Federal Officer (DFO), U.S. Environmental Protection Agency, Great Lakes National Program Office, 77 W. Jackson Boulevard, Chicago, Illinois 60604.

FOR FURTHER INFORMATION CONTACT: Rita Cestaric, Designated Federal Officer, U.S. Environmental Protection Agency, 77 W. Jackson, Chicago, IL 60604; email address: cestaric.rita@epa.gov; telephone number: (312) 886-6815. General information concerning Great Lakes restoration and protection and the Advisory Board can be found at http://www.glri.us.

SUPPLEMENTARY INFORMATION:

Background: The Board is a federal advisory committee chartered under the Federal Advisory Committee Act (FACA), Public Law 92-463. EPA established the Board in 2013 to provide independent advice to the EPA Administrator in her capacity as Chair of the IATF. The Board conducts business in accordance with FACA and related regulations. The Board consists of eighteen experts representing a broad range of Great Lakes interests.

The SIS is being formed to provide expert advice on matters related to Board work. Specifically, the SIS may provide advice on the technical aspects of Great Lakes restoration and protection including refinement and implementation of an Adaptive Management Framework under the GLRI. It may provide other advice as requested, such as domestic implementation of the Great Lakes Water Quality Agreement (Science) Annex 10, the identification of significant gaps in Great Lakes scientific knowledge, the development and use of information systems to assist in adaptive management and other matters as requested by the federal agencies regarding Great Lakes protection and restoration.

The SIS will as needed, but it is anticipated to meet in person or by teleconference at least two times a year. The anticipated workload for members will be approximately 100-150 hours per year. SIS members may be invited to participate in meetings of the Board, in addition to participation on the SIS.

The SIS is anticipated to be composed of ten to fifteen members. Federal agency representatives may serve as advisors to the SIS. EPA will work directly with federal agencies to solicit qualified federal participants. This solicitation is focused exclusively on non-Federal candidates for membership.

Request for Nominations: Nominees should be regionally, nationally or internationally recognized experts in one or more of the following disciplines: Ecology, environmental chemistry, environmental engineering, geology, fisheries and wildlife management, public health, social sciences, behavioral sciences, economics, and/or information management, including technological platforms (e.g., dashboards) for information delivery. It is helpful, but not necessary, to have demonstrated experience with Great Lakes-specific issues.

How To Submit Nominations: Any interested person or organization may nominate qualified individuals for appointment to the SIS. Individuals may self-nominate. Nominations can be submitted in electronic format (preferred) or in hard copy format (see ADDRESSES section above). To be considered, nominations should include a cover letter and curriculum vitae. The cover letter should include why the nominee wishes to be considered and a short biographical sketch (no more than two paragraphs). The CV should contain contact information for the person making the nomination; contact information for the nominee; the disciplinary and specific areas of expertise of the nominee; sources of recent grant and/or contract support; current position, educational background, research activities, and recent service on other national advisory committees or national professional organizations.

The SIS will include members who possess the necessary domains of knowledge and the collective breadth of experience to adequately address the charge. Selection criteria to be used for SIS membership include: (a) Scientific and/or technical expertise, knowledge and experience; (b) availability and willingness to serve; (c) skills working in committees, subcommittees and advisory panels; and, (d) diversity of expertise and viewpoints. EPA values and welcomes diversity and encourages nominations of women and men of all racial and ethnic groups. A SIS that includes geographically diverse membership will also be a consideration by EPA in selecting nominees.

Individuals having questions about the nomination procedures should contact Rita Cestaric, DFO, as indicated above in this notice. The EPA will acknowledge the receipt of all nominations. To help the Agency in evaluating the effectiveness of its outreach efforts, please tell us how you learned of this opportunity.

Dated: May 12, 2015.
Stan Meiburg,
Acting Deputy Administrator.

[FR Doc. 2015-12259 Filed 5-19-15; 8:45 am]

BILLING CODE 6560-50-P